COMMITTEE FOR THE IMPLEMENTATION OF TEXTILE AGREEMENTS

Announcement of Import Limits for Certain Cotton, Wool, Man-Made Fiber, Silk Blend and Other Vegetable Fiber Textiles and Textile Products Produced or Manufactured in the People's Republic of China and Amendment of Export Visa and Certification Requirements for Textiles and Textile Products Integrated into GATT 1994 in the First, Second and Third Stage; Correction

February 6, 2002.

In the letter to the Commissioner of Customs published in the Federal Register on December 28, 2001 (66 FR 67229), on page 67230, 1st column, in the table listing import restraint limits, Category 239pt. was inadvertently omitted from the list of categories covered under Group I. The corresponding footnote, reading “Category 239pt.: only HTS number 6209.20.5040 (diapers),” was also inadvertently omitted from the list of footnotes on page 67230, 3rd column. A letter has been sent to the Commissioner of Customs to add this category to the categories listed under Group I and to add the corresponding footnote to the list of footnotes.

D. Michael Hutchinson,
Acting Chairman, Committee for the Implementation of Textile Agreements.

[FR Doc. 02-3324 Filed 2-12-02; 8:45 am]

BILLING CODE 3510-DR-S